DEPARTMENT OF ENERGY

Notice of Revised Scope for the Hanford Site Solid (Radioactive and Hazardous) Waste Program Environmental Impact Statement, Richland, WA

AGENCY: Department of Energy.

ACTION: Notice.

SUMMARY: The U.S. Department of Energy (DOE) has decided to revise the scope of the Hanford Site Solid (Radioactive and Hazardous) Waste Program Environmental Impact Statement, Richland, Washington. DOE issued a Draft Environmental Impact Statement (EIS) for the Hanford Site Solid Waste Program in May 2002. Subsequently, DOE issued a Notice of Intent to prepare a separate EIS, the Tank Waste Remediation System Supplemental EIS for the Disposal of Immobilized Low-Activity Wastes from Hanford Tank Waste Processing. DOE now intends to incorporate the scope of the Supplemental EIS into the scope of the EIS for the Solid Waste Program. DOE will not issue a separate Supplemental EIS for immobilized tank waste.

FOR FURTHER INFORMATION CONTACT: To request information about the revised draft EIS or to be placed on the EIS distribution list, contact:

Mr. Michael S. Collins, HSW EIS Document Manager, Richland Operations Office, U.S. Department of Energy, A6-38, Post Office Box 550, Richland, Washington, 99352-0550, Telephone and voice mail: (509) 376-6536, Fax: (509) 372-1926, Electronic mail: solid_waste_eis_-_doe@rl.gov.

For general information about the DOE NEPA process, contact:

Ms. Carol M. Borgstrom, Director, Office of NEPA Policy and Compliance (EH-42), U.S. Department of Energy, 1000 Independence Avenue, SW, Washington, DC, 20585-0119, Fax: (202) 586-7031, Telephone: (202) 586-4600, Voice mail: (800) 472-2756.

SUPPLEMENTARY INFORMATION: DOE has decided to revise the scope of the Hanford Site Solid Waste (Radioactive and Hazardous) Waste Program Environmental Impact Statement, Richland, Washington. DOE issued a Draft EIS for the Hanford Site Solid Waste Program in May 2002 (67 FR 36592, May 24, 2002). Subsequently, DOE issued a Notice of Intent (67 FR 45104, July 8, 2002) to prepare a separate EIS, the Tank Waste Remediation System Supplemental EIS for Disposal of Immobilized Low-Activity Wastes from Hanford Tank Waste Processing. DOE now intends to incorporate the scope of the Supplemental EIS into the scope of the EIS for the Solid Waste Program. In making this decision, DOE considered comments received on the original Draft EIS for the Solid Waste Program, and scoping comments for the Supplemental EIS, including the recommendations of the Environmental Protection Agency, the Washington State Department of Ecology, and the Hanford Advisory Board. Accordingly, DOE intends to issue a revised Draft EIS for the Solid Waste Program that reflects this expanded scope and responds to other comments on the Draft EIS, in accordance with Council on Environmental Quality and DOE procedures for implementing the National Environmental Policy Act (NEPA) (40 CFR parts 1500-1508 and 10 CFR part 1021).

The revised Draft EIS will evaluate the potential environmental impacts associated with ongoing activities of the Hanford Site Solid Waste Program, disposal of immobilized low-activity wastes from Hanford tank waste processing, and reasonably foreseeable treatment, storage and disposal facilities and activities. The revised Draft EIS also will contain additional analyses of alternatives for managing both waste generated at the Hanford Site and waste received from offsite DOE generators, consistent with decisions resulting from the Department's Final Waste management Programmatic EIS (DOE/EIS-0200-F, May 1997) for low-level waste and mixed low-level waste (65 FR 10061, February 25, 2000).

Anticipated changes for the revised draft EIS include:

—The addition of alternatives for the disposal of immobilized low-activity waste from the tank farms and evaluation of the impacts of those alternatives.

—The addition of more alternatives for the disposal of low-level waste and mixed low-level waste and evaluation of the impacts of those alternatives.

—The addition of alternatives for disposal of different waste types (immobilized low-activity waste, low-level waste, mixed low-level waste) together and evaluation of the impacts of those alternatives.

—The addition of information on the impacts of transporting waste especially as it pertains to the States of Washington and Oregon.

—The addition of DOE responses to major issues from the first draft EIS.

In addition, DOE recently issued a Notice of Intent to prepare a separate EIS, Treatment, and Disposal of Tank Waste and Closure of Single-Shell Tanks at the Hanford Site, Richland, Washington (DOE/EIS-0356), (68 FR 1052, January 8, 2003). In this new tank waste treatment and closure EIS, DOE intends to evaluate alternative tank waste treatment processes for low activity waste. DOE will coordinate this EIS with the EIS on Hanford's Solid Waste Program, as appropriate.

Issued in Richland, Washington, on this 5th day of February, 2003.
Keith A. Klein,
Manager, Richland Operations Office.

[FR Doc. 03-3482 Filed 2-11-03; 8:45 am]

BILLING CODE 6450-01-P